DEPARTMENT OF TRANSPORTATION

Federal Aviation Administration

14 CFR Part 39

[Docket No. FAA-2021-0311; Project Identifier MCAI-2021-00244-E; Amendment 39-21517; AD 2021-09-04]

RIN 2120-AA64

Airworthiness Directives; Austro Engine GmbH Engines

AGENCY: Federal Aviation Administration (FAA), DOT.

ACTION: Final rule; request for comments.

SUMMARY: The FAA is adopting a new airworthiness directive (AD) for all Austro Engine GmbH E4 and E4P model diesel piston engines. This AD was prompted by reports of an oil pump blockage on E4 model diesel piston engines. This AD requires replacing a certain oil pump as well as the oil filter and engine oil. The FAA is issuing this AD to address the unsafe condition on these products.

DATES: This AD is effective May 10, 2021.

The Director of the Federal Register approved the incorporation by reference of a certain publication listed in this AD as of May 10, 2021.

The FAA must receive comments on this AD by June 7, 2021.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this final rule, contact Austro Engine GmbH, Rudolf-Diesel-Strasse 11, 2700 Weiner Neustadt, Austria; phone: +43 2622 23000 2525; website: www.austroengine.at. You may view this service information at the FAA, Airworthiness Products Section, Operational Safety Branch, 1200 District Avenue, Burlington, MA 01803. For information on the availability of this material at the FAA, call (781) 238-7759. It is also available at https://www.regulations.gov by searching for and locating Docket No. FAA-2021-0311.

Examining the AD Docket

You may examine the AD docket at https://www.regulations.gov by searching for and locating Docket No. FAA-2021-0311; or in person at Docket Operations between 9 a.m. and 5 p.m., Monday through Friday, except Federal holidays. The AD docket contains this final rule, the mandatory continuing airworthiness information (MCAI), any comments received, and other information. The street address for the Docket Operations is listed above.

FOR FURTHER INFORMATION CONTACT: Wego Wang, Aviation Safety Engineer, ECO Branch, FAA, 1200 District Avenue, Burlington, MA 01803; phone: (781) 238-7134; fax: (781) 238-7199; email: wego.wang@faa.gov.

SUPPLEMENTARY INFORMATION:

Background

The European Union Aviation Safety Agency (EASA), which is the Technical Agent for the Member States of the European Community, issued EASA Emergency AD 2021-0055-E, dated February 25, 2021. EASA Emergency AD 2021-0055-E was revised by EASA AD 2021-0055R1, dated March 10, 2021. EASA AD 2021-0055R1 was superseded by EASA AD 2021-0094, dated March 31, 2021 (referred to after this as “the MCAI”), to address the unsafe condition on these products. The MCAI states:

Occurrences were reported of oil pump blockage on E4-A and E4-B engines. Subsequent investigation determined that the blockage was caused by oil contamination with casting sand from the production process of oil pump P/N E4A-50-000-BHY. A blocked oil pump causes failure of the engine lubrication system. The root cause was found in the sand casted oil pump housing cleaning process, which was not properly performed.

This condition, if not corrected, could lead to engine in-flight shut-down with consequent forced landing, possibly resulting in damage to the aeroplane and injury to occupants.

To address this potential unsafe condition, Austro Engine published the SB at original issue (later revised to add affected part s/n) to provide instructions to replace the affected oil pumps, and EASA issued AD 2021-0055-E to require replacement of affected parts, and replacement of the oil and filter. Subsequently, [EASA] AD 2021-0055R1 was issued to refer to the SB at Revision 2, where certain engines were removed from the applicability. The SB at Revision 2 also expanded the list of affected part s/n, but without impact on [EASA] AD compliance, as all added s/n were still in stock and would not be delivered to operators anymore. Since that [EASA] AD was issued, it was determined that affected parts are installed on additional engines, and Austro Engine published the SB at Revision 3 to correct the list of affected engine s/n. An additional oil pump replacement option was introduced with SB Revision 4 (with no further change to the list of affected engines/parts).

For the reason described above, this [EASA] AD retains the requirements of EASA AD 2021-0055R1, which is superseded, and refers to the SB at Revision 4 (including the additional engine s/n and the new oil pump replacement option). This [EASA] AD also expands the Applicability to include all engines where the affected part is eligible for installation, and prohibits (re)installation of an affected part on all engines.

You may obtain further information by examining the MCAI in the AD docket at https://www.regulations.gov by searching for and locating Docket No. FAA-2021-0311.

FAA's Determination

This product has been approved by EASA and is approved for operation in the United States. Pursuant to our bilateral agreement with the European Community, EASA has notified the FAA of the unsafe condition described in the MCAI and service information. The FAA is issuing this AD because the agency evaluated all the relevant information provided by EASA and determined the unsafe condition described previously is likely to exist or develop in other products of the same type design.

Related Service Information Under 1 CFR Part 51

The FAA reviewed Austro Engine GmbH Mandatory Service Bulletin No. MSB-E4-030/4, Revision No. 4, dated March 30, 2021 (the MSB). This service information specifies procedures for replacing the affected oil pumps installed on E4 and E4P model diesel piston engines. This service information also specifies procedures for replacing the oil filter and engine oil installed on these engines. In addition, this service information identifies the applicable serial numbers (S/Ns) of affected E4 and E4P model diesel piston engines, the affected oil pumps requiring replacement, and an additional oil pump replacement option. This service information is reasonably available because the interested parties have access to it through their normal course of business or by the means identified in the ADDRESSES section.

AD Requirements

This AD requires removing the affected oil pump from service and replacing it with a part eligible for installation. This AD also requires replacing the oil filter and engine oil.

Differences Between the AD and the MCAI or Service Information

The MSB specifies that the removed oil pump must be returned to Austro Engine GmbH. The MSB specifies that information, including the engine flight hours (FHs) recorded at the time of the oil pump replacement, must be sent to Austro Engine GmbH. This AD does not mandate sending the removed oil pump or information, including the engine flight hours recorded at the time of oil pump replacement, to Austro Engine GmbH.

The MSB also specifies that for all engines with 10 FHs or less, to replace the affected oil pump, oil filter, and engine oil before the next flight. Whereas, this AD requires, for Group 1 and Group 2 engines with 10 FHs or less, replacement of the affected oil pump, oil filter, and engine oil within 30 days, before accumulating 10 FHs, or during the next scheduled maintenance, whichever occurs first after the effective date of this AD.

Interim Action

The FAA considers this AD an interim action. If final action is later identified, the FAA might consider further rulemaking.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies foregoing notice and comment prior to adoption of this rule. The FAA received reports of an oil pump blockage on the E4, configured as E4-A and E4-B, model diesel piston engines. The manufacturer subsequently determined that the blockage was caused by oil contamination with casting sand from the production process of the oil pump. Austro Engine issued service information providing instructions for replacement of a certain oil pump, oil filter, and engine oil installed on E4 and E4P model diesel piston engines.

A blocked oil pump can result in failure of the engine lubrication system, resulting in failure of the engine, in-flight shutdown, and loss of the airplane. The FAA considers a blocked oil pump to be an urgent safety issue that requires immediate action to avoid loss of the airplane. Accordingly, notice and opportunity for prior public comment are impracticable and contrary to the public interest pursuant to 5 U.S.C. 553(b)(3)(B). In addition, the FAA finds that good cause exists pursuant to 5 U.S.C. 553(d) for making this amendment effective in less than 30 days, for the same reasons the FAA found good cause to forego notice and comment.

Comments Invited

The FAA invites you to send any written data, views, or arguments about this final rule. Send your comments to an address listed under ADDRESSES. Include “Docket No. FAA-2021-0311 and Project Identifier MCAI-2021-00244-E” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to https://www.regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Wego Wang, Aviation Safety Engineer, ECO Branch, FAA, 1200 District Avenue, Burlington, MA 01803. Any commentary that the FAA receives which is not specifically designated as CBI will be placed in the public docket for this rulemaking.

Regulatory Flexibility Act

The requirements of the Regulatory Flexibility Act (RFA) do not apply when an agency finds good cause pursuant to 5 U.S.C. 553 to adopt a rule without prior notice and comment. Because FAA has determined that it has good cause to adopt this rule without prior notice and comment, RFA analysis is not required.

Costs of Compliance

The FAA estimates that this AD affects 55 engines installed on airplanes of U.S. registry.

The FAA estimates the following costs to comply with this AD:

Estimated Costs
Action | Labor cost | Parts cost | Cost per product | Cost on U.S. operators
Remove and replace the oil pump, oil filter, and engine oil | 16 work-hours × $85 per hour = $1,360 | $1,488 | $1,360 | $74,800

The FAA has included all known costs in its cost estimate. According to the manufacturer, however, some of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-09-04 Austro Engine GmbH: Amendment 39-21517; Docket No. FAA-2021-0311; Project Identifier MCAI-2021-00244-E.

(a) Effective Date

This airworthiness directive (AD) is effective May 10, 2021.

(b) Affected ADs

None.

(c) Applicability

This AD applies to all Austro Engine GmbH E4 and E4P model diesel piston engines.

(d) Subject

Joint Aircraft System Component (JASC) Code 8550, Reciprocating Engine Oil System.

(e) Unsafe Condition

This AD was prompted by reports of an oil pump blockage on the E4 model diesel piston engines. The FAA is issuing this AD to prevent failure of the engine lubrication system. The unsafe condition, if not addressed, could result in failure of the engine, in-flight shutdown, and loss of the airplane.

(f) Compliance

Comply with this AD within the compliance times specified, unless already done.

(g) Required Actions

Within the compliance time specified in Table 1 to paragraph (g) of this AD:

(1) Remove the oil pump, part number (P/N) E4A-50-000-BHY, from service and replace with a part eligible for installation using the Accomplishment/Instructions, paragraph 2.2.1 or paragraph 2.2.2, of Austro Engine GmbH Mandatory Service Bulletin No. MSB-E4-030/4, Revision 4, dated March 30, 2021 (the MSB), as applicable.

(2) Replace the oil filter and engine oil using the Accomplishment/Instructions, paragraph 2.2.1 or paragraph 2.2.2, of the MSB, as applicable.

(h) No Reporting Requirements

The reporting requirements in the Accomplishment/Instructions, paragraph 2.2., of the MSB, are not required by this AD.

(i) Installation Prohibition

After the effective date of this AD, do not install onto any engine an oil pump having a P/N and serial number (S/N) listed in paragraph 1.2., Engines Affected, of the MSB.

(j) Definitions

For the purpose of this AD:

(1) Group 1 engines are E4 model diesel piston engines in configuration “-A” that are installed on single-engine airplanes.

(2) Group 2 engines are E4 model diesel piston engines in configuration “-B” or “-C” and E4P model diesel piston engines that are installed on twin-engine airplanes.

(3) A part eligible for installation is an oil pump with a P/N and S/N that is not listed in paragraph 1.2., Engines Affected, of the MSB.

(k) Credit for Previous Actions

You may take credit for replacing the oil pump, oil filter, and engine oil required by paragraph (g) of this AD if you performed these replacements before the effective date of this AD using the Accomplishment/Instructions, paragraph 2.2., of Austro Engine GmbH MSB No. MSB-E4-030, Original Issue, dated February 18, 2021; Revision 1, dated February 23, 2021; Revision 2, dated March 3, 2021; or Revision 3, dated March 18, 2021.

(l) Alternative Methods of Compliance (AMOCs)

(1) The Manager, ECO Branch, FAA, has the authority to approve AMOCs for this AD, if requested using the procedures found in 14 CFR 39.19. In accordance with 14 CFR 39.19, send your request to your principal inspector or local Flight Standards District Office, as appropriate. If sending information directly to the manager of the certification office, send it to the attention of the person identified in Related Information. Information may be emailed to: ANE-AD-AMOC@faa.gov.

(2) Before using any approved AMOC, notify your appropriate principal inspector, or lacking a principal inspector, the manager of the local flight standards district office/certificate holding district office.

(m) Related Information

(1) For more information about this AD, contact Wego Wang, Aviation Safety Engineer, ECO Branch, FAA, 1200 District Avenue, Burlington, MA 01803; phone: (781) 238-7134; fax: (781) 238-7199; email: wego.wang@faa.gov.

(2) Refer to European Union Aviation Safety Agency (EASA) AD 2021-0094, dated March 31, 2021, for more information. You may examine the EASA AD in the AD docket at https://www.regulations.gov by searching for and locating it in Docket No. FAA-2021-0311.

(n) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Austro Engine GmbH Mandatory Service Bulletin No. MSB-E4-030/4, Revision 4, dated March 30, 2021.

(ii) [Reserved]

(3) For service information identified in this AD, you may contact Austro Engine GmbH, Rudolf-Diesel-Strasse 11, 2700 Weiner Neustadt, Austria; phone: +43 2622 23000 2525; website: www.austroengine.at.

(4) You may view this service information at the FAA, Airworthiness Products Section, Operational Safety Branch, 1200 District Avenue, Burlington, MA 01803. For information on the availability of this material at the FAA, call (781) 238-7759.

(5) You may view this service information that is incorporated by reference at the National Archives and Records Administration (NARA). For information on the availability of this material at NARA, email: fedreg.legal@nara.gov, or go to: https://www.archives.gov/federal-register/cfr/ibr-locations.html.

Issued on April 14, 2021.
Gaetano A. Sciortino,
Deputy Director for Strategic Initiatives, Compliance & Airworthiness Division, Aircraft Certification Service.

[FR Doc. 2021-08558 Filed 4-21-21; 8:45 am]

BILLING CODE 4910-13-P